DEPARTMENT OF THE INTERIOR

Fish and Wildlife Service

[FWS-R3-ES-2016-N106; FXES11130300000-167-FF03E00000]

Endangered and Threatened Wildlife and Plants; Permit Applications

AGENCY: Fish and Wildlife Service, Interior.

ACTION: Notice of availability; request for comments.

SUMMARY: We, the U.S. Fish and Wildlife Service, invite the public to comment on the following applications for a permit to conduct activities intended to enhance the survival of endangered or threatened species. Federal law prohibits certain activities with endangered species unless a permit is obtained.

DATES: We must receive any written comments on or before July 21, 2016.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

FOR FURTHER INFORMATION CONTACT: Carlita Payne, (612) 713-5343.

SUPPLEMENTARY INFORMATION:

Background

The Endangered Species Act of 1973 (ESA), as amended (16 U.S.C. 1531 et seq.), prohibits certain activities with endangered and threatened species unless the activities are specifically authorized by a Federal permit. The ESA and our implementing regulations in part 17 of title 50 of the Code of Federal Regulations (CFR) provide for the issuance of such permits and require that we invite public comment before issuing permits for activities involving endangered species.

A permit granted by us under section 10(a)(1)(A) of the ESA authorizes the permittee to conduct activities with U.S. endangered or threatened species for scientific purposes, enhancement of propagation or survival, or interstate commerce (the latter only in the event that it facilitates scientific purposes or enhancement of propagation or survival). Our regulations implementing section 10(a)(1)(A) of the ESA for these permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the permit number when you submit comments. Documents and other information the applicants have submitted with the applications are available for review, subject to the requirements of the Privacy Act (5 U.S.C. 552a) and Freedom of Information Act (5 U.S.C. 552).

Permit Applications

Permit Application Number: TE06820A

Applicant: Russell Benedict, Central College, Pella, IA

The applicant requests a permit renewal, with amendment to take (capture and release, and radio-tag) Indiana bat (Myotis sodalis), gray bat (Myotis grisescens), and northern long-eared bat (Myotis septentrionalis) for presence/absence surveys, studies to document habitat use, and population monitoring in the States of Illinois, Iowa, Missouri, and Nebraska. Proposed activities are for the recovery and enhancement of survival of the species in the wild.

Permit Application Number: TE88224B

Applicant: Joseph Snavely IV, Chambersburg, PA

The applicant requests a permit to take (capture and release) Higgins eye (pearlymussel) (Lampsilis higginsii), snuffbox mussel (Epioblasma triquetra), sheepnose mussel (Plethobasus cyphyus), spectaclecase (mussel) (Cumberlandia monodonta), purple cat's paw pearlymussel (Epioblasma obliquata obliquata), pink mucket (pearlymussel) (Lampsilis abrupta), clubshell (Pleurobema clava), fanshell (Cyprogenia stegaria), fat pocketbook (Potamilus capax), rabbitsfoot (Quadrula cylindrica cylindrica), rayed bean (Villosa fabalis), scaleshell mussel (Leptodea leptodon), winged mapleleaf (Quadrula fragosa), and northern riffleshell (Epioblasma torulosa rangiana), for presence/absence surveys, studies to document habitat use, and population monitoring in the States of Illinois, Indiana, Iowa, Minnesota, Missouri, Ohio, and Wisconsin. Proposed activities are for the recovery and enhancement of survival of the species in the wild.

Permit Application Number: TE88353B

Applicant: Jesse De La Cruz, Fairmont, WV

The applicant requests a permit to take (capture and release, trap, and radio-tag) Indiana bat (Myotis sodalis), gray bat (Myotis grisescens), northern long-eared bat (Myotis septentrionalis), and Virginia big-eared bat (Corynorhinus townsendii virginianus) for presence/absence surveys, studies to document habitat use, and population monitoring in the States of Illinois, Indiana, Iowa, Kentucky, Michigan, North Carolina, Ohio, Virginia, and West Virginia. Proposed activities are for the recovery and enhancement of survival of the species in the wild.

Permit Application Number: TE113009

Applicant: Steven Ahlstedt, Norris, TN

The applicant requests a permit renewal to take (capture and release) clubshell (Pleurobema clava), Cumberland bean (pearlymussel) (Villosa trabalis), Cumberland elktoe (Alasmidonta atropurpurea), Cumberlandian combshell (Epioblasma brevidens), dromedary pearlymussel (Dromus dromas), fluted kidneyshell (Ptychobranchus subtentum), littlewing pearlymussel (Pegias fabula), oyster mussel (Epioblasma capsaeformis), purple cat's paw pearlymussel (Epioblasma obliquata obliquata), rayed bean (Villosa fabalis), spectaclecase (mussel) (Cumberlandia monodonta), tan riffleshell (Epioblasma florentina walkeri = E. walkeri), and white catspaw (pearlymussel) (Epioblasma obliquata perobliqua) for presence/absence surveys, studies to document habitat use, and population monitoring in the States of Indiana, Ohio, and Kentucky. Proposed activities are for the recovery and enhancement of survival of the species in the wild.

Permit Application Number: TE35521B

Applicant: Western Ecosystems Technology, Inc., Cheyenne, WY

The applicant requests a permit renewal to take (capture and release) 41 federally listed mussel species and 12 federally listed fish species for presence/absence surveys, studies to document habitat use, and population monitoring in the States of Alabama, Colorado, Georgia, Illinois, Indiana, Kansas, Kentucky, Minnesota, Mississippi, Missouri, Montana, Nebraska, New York, North Carolina, North Dakota, Ohio, Pennsylvania, South Dakota, Tennessee, Virginia, West Virginia, Wisconsin, and Wyoming. Proposed activities are for the recovery and enhancement of survival of the species in the wild.

Permit Application Number: TE86150B

Applicant: Geoffrey Palmer, Liberty Township, OH

The applicant requests a permit to take (capture and release, trap, and radio-tag) Indiana bat (Myotis sodalis), gray bat (Myotis grisescens), and northern long-eared bat (Myotis septentrionalis) for presence/absence surveys, studies to document habitat use, and population monitoring throughout these species' ranges. Proposed activities are for the recovery and enhancement of survival of the species in the wild.

Permit Application Number: TE94330A

Applicant: Robert Krebs, Cleveland, OH

The applicant requests a permit renewal, with amendment to take (capture and release) pink mucket (pearlymussel) (Lampsilis abrupta), northern riffleshell (Epioblasma torulosa rangiana), purple cat's paw pearlymussel (Epioblasma obliquata obliquata), white catspaw (pearlymussel) (Epioblasma obliquata perobliqua), sheepnose mussel (Plethobasus cyphyus), orangefoot pimpleback (pearlymussel) (Plethobasus cooperianus), clubshell (Pleurobema clava), fanshell (Cyprogenia stegaria), rabbitsfoot (Quadrula cylindrica cylindrica), and rayed bean (Villosa fabalis), and to take (capture and release; temporary hold) snuffbox mussel (Epioblasma triquetra) for presence/absence surveys, studies to document habitat use, and population monitoring in the State of Ohio. Proposed activities are for research and enhancement of propagation and survival of the species in the wild.

Permit Application Number: TE60999A

Applicant: Levi Miller, Logan, OH

The applicant requests a permit amendment to take (capture and release, trap, and radio-tag) Indiana bat (Myotis sodalis) and northern long-eared bat (Myotis septentrionalis) for presence/absence surveys, studies to document habitat use, and population monitoring in the States of Kentucky and Ohio. Proposed activities are for the recovery and enhancement of survival of the species in the wild.

Permit Application Number: TE838715

Applicant: The Nature Conservancy, Ohio Operating Unit, Swanton, OH

The applicant requests a permit renewal to take (harass and kill through habitat management) Karner blue butterfly (Lycaeides melissa samuelis) at the Kitty Todd Nature Preserve, in Lucas County, Ohio. Proposed activities are for the conservation of the species through habitat management.

Permit Application Number: TE43541A

Applicant: Dr. Francesca Cuthbert, University of Minnesota, St. Paul, MN

The applicant requests a permit renewal, with amendment to take (capture and release; capture and rear) piping plover (Charadrius melodus) in the States of Illinois, Michigan, and Wisconsin. The research entails capture and marking of piping plovers, erecting nesting exclosures to improve nesting success, salvaging orphaned eggs and nestlings, and captive rearing and release. Proposed activities are for the recovery and enhancement of survival of the species in the wild.

Permit Application Number: TE02365A

Applicant: Lynn Robbins, Missouri State University, Springfield, MO

The applicant requests a permit renewal, with amendment to take (capture and release, trap, and radio-tag) Indiana bat (Myotis sodalis), gray bat (Myotis grisescens), northern long-eared bat (Myotis septentrionalis), and Ozark big-eared bat (Corynorhinus townsendii ingens) for presence/absence surveys, studies to document habitat use, and population monitoring throughout these species' ranges. Proposed activities are for the recovery and enhancement of survival of the species in the wild.

Permit Application Number: TE182436

Applicant: Illinois Natural History Survey, Champaign, IL

The applicant requests a permit to take (capture and release, trap, and radio-tag) Indiana bat (Myotis sodalis), gray bat (Myotis grisescens), and northern long-eared bat (Myotis septentrionalis) for presence/absence surveys, studies to document habitat use, and population monitoring in the States of Illinois and Missouri. Proposed activities are for the recovery and enhancement of survival of the species in the wild.

Permit Application Number: TE98057A

Applicant: Lynda Mills, Whitley, KY

The applicant requests a permit renewal, with amendment to take (capture and release, trap, and radio-tag) Indiana bat (Myotis sodalis), gray bat (Myotis grisescens), and northern long-eared bat (Myotis septentrionalis) for presence/absence surveys, studies to document habitat use, and population monitoring in the State of Missouri. Proposed activities are for the recovery and enhancement of survival of the species in the wild.

Permit Application Number: TE98673B

Applicant: Jason Layne, Spring Hill, KS

The applicant requests a permit to take (capture and release, handle, and radio-tag) Indiana bat (Myotis sodalis), gray bat (Myotis grisescens), northern long-eared bat (Myotis septentrionalis), Virginia big-eared bat (Corynorhinus townsendii virginianus), and Ozark big-eared bat (Corynorhinus townsendii ingens) for presence/absence surveys, studies to document habitat use, and population monitoring throughout these species' ranges. Proposed activities are for the recovery and enhancement of survival of the species in the wild.

Permit Application Number: TE27915B

Applicant: Wildlife Specialists, LLC, Wellsboro, PA

The applicant requests a permit renewal, with amendment to take (capture and release, handle, and radio-tag) Indiana bat (Myotis sodalis), northern long-eared bat (Myotis septentrionalis), and Virginia big-eared bat (Corynorhinus townsendii virginianus) for presence/absence surveys, studies to document habitat use, and population monitoring throughout these species' ranges. Proposed activities are for the recovery and enhancement of survival of the species in the wild.

Permit Application Number: TE94321A

Applicant: Brian O'Neill, Oak Park, IL

The applicant requests a permit renewal to take (capture and release) 28 federally listed mussel species and 7 federally listed fish species for presence/absence surveys, studies to document habitat use, and population monitoring in the States of Illinois, Indiana, Iowa, Kentucky, Michigan, Minnesota, Missouri, Ohio, Tennessee, Pennsylvania, West Virginia, and Wisconsin. Proposed activities are for the recovery and enhancement of survival of the species in the wild.

Permit Application Number: TE98674B

Applicant: Cheyenne Gerdes, Springfield, MO

The applicant requests a permit to take (capture and release, handle, trap, and radio-tag) Indiana bat (Myotis sodalis), gray bat (Myotis grisescens), and northern long-eared bat (Myotis septentrionalis) for presence/absence surveys, studies to document habitat use, and population monitoring throughout these species' ranges. Proposed activities are for the recovery and enhancement of survival of the species in the wild.

Permit Application Number: TE99051B

Applicant: Goniela Iskali, Bloomington, IN

The applicant requests a permit to take (capture and release, handle, trap and radio-tag) Indiana bat (Myotis sodalis) and northern long-eared bat (Myotis septentrionalis) for presence/absence surveys, studies to document habitat use, and population monitoring throughout these species' ranges. Proposed activities are for the recovery and enhancement of survival of the species in the wild.

Permit Application Number: TE99052B

Applicant: Eko Consulting LLC, Cobden, IL

The applicant requests a permit to take (capture and release, handle, and radio-tag) Indiana bat (Myotis sodalis), gray bat (Myotis grisescens), and northern long-eared bat (Myotis septentrionalis) for presence/absence surveys, studies to document habitat use, and population monitoring throughout these species' ranges. Proposed activities are for the recovery and enhancement of survival of the species in the wild.

Permit Application Number: TE206781

Applicant: Ecological Specialists, Inc., O'Fallon, MO

The applicant requests a permit amendment to take (capture and release, capture and relocate) 58 federally listed mussel species for presence/absence surveys, studies to document habitat use, and population monitoring throughout these species' ranges. Proposed activities are for the recovery and enhancement of survival of the species in the wild.

Permit Application Number: TE99055B

Applicant: Benjamin Smith, Springfield, MO

The applicant requests a permit to take (capture and release, handle, trap, and radio-tag) Indiana bat (Myotis sodalis), gray bat (Myotis grisescens), and northern long-eared bat (Myotis septentrionalis) for presence/absence surveys, studies to document habitat use, and population monitoring throughout these species' ranges. Proposed activities are for the recovery and enhancement of survival of the species in the wild.

Permit Application Number: TE99056B

Applicant: Marion Wells, Miamisburg, OH

The applicant requests a permit to take (capture and release, capture and relocate, and salvage) pink mucket (pearlymussel) (Lampsilis abrupta), northern riffleshell (Epioblasma torulosa rangiana), purple cat's paw pearlymussel (Epioblasma obliquata obliquata), white catspaw (pearlymussel) (Epioblasma obliquata perobliqua), sheepnose mussel (Plethobasus cyphyus), clubshell (Pleurobema clava), fanshell (Cyprogenia stegaria), snuffbox mussel (Epioblasma triquetra), and rayed bean (Villosa fabalis) for presence/absence surveys, studies to document habitat use, and population monitoring throughout the State of Ohio. Proposed activities are for the recovery and enhancement of survival of the species in the wild.

Permit Application Number: TE99058B

Applicant: Joshua Flinn, Independence, MO

The applicant requests a permit to take (capture and release, handle, and radio-tag) Indiana bat (Myotis sodalis), gray bat (Myotis grisescens), northern long-eared bat (Myotis septentrionalis), Virginia big-eared bat (Corynorhinus townsendii virginianus), and Ozark big-eared bat (Corynorhinus townsendii ingens) for presence/absence surveys, studies to document habitat use, and population monitoring throughout these species' ranges. Proposed activities are for the recovery and enhancement of survival of the species in the wild.

Permit Application Number: TE99055B

Applicant: University of Wisconsin-Madison, Madison, WI

The applicant requests a permit to take (capture and release; capture and rear) Kirtland's warbler (Setophaga kirtlandii) in the State of Wisconsin. The research entails capture and release, attaching radio-transmitters, tracking fledgling movements, and recording nesting activities and nest predation. Proposed activities are for the recovery and enhancement of survival of the species in the wild.

Permit Application Number: TE839763

Applicant: John Whitaker, Jr., Terre Haute, IN

The applicant requests a permit renewal, with amendment to take (capture and release, handle, trap, and tag) Indiana bat (Myotis sodalis), gray bat (Myotis grisescens), and northern long-eared bat (Myotis septentrionalis) for presence/absence surveys, studies to document habitat use, and population monitoring throughout these species' ranges. Proposed activities are for the recovery and enhancement of survival of the species in the wild.

Permit Application Number: TE207523

Applicant: The Nature Conservancy—Michigan Chapter, Lansing, MI

The applicant requests a permit renewal to take (harass/harm through habitat management; census and monitoring) Mitchell's satyr butterfly (Neonympha mitchellii mitchellii), Karner blue butterfly (Lycaeides melissa samuelis), and Pitcher's thistle (Cirsium pitcheri) within the State of Michigan. Proposed activities are for the conservation of the species through habitat management.

Permit Application Number: TE38842A

Applicant: Sanders Environmental Inc., Bellefonte, PA

The applicant requests a permit amendment to take (capture and release, handle, and radio-tag) Indiana bat (Myotis sodalis) and northern long-eared bat (Myotis septentrionalis) for presence/absence surveys, studies to document habitat use, and population monitoring in the States of Illinois, Indiana, Iowa, Michigan, Minnesota, Missouri, Ohio, Wisconsin, Alabama, Arkansas, Florida, Georgia, Kentucky, Louisiana, Mississippi, North Carolina, South Carolina, and Tennessee. Proposed activities are for the recovery and enhancement of survival of the species in the wild.

Permit Application Number: TE06778A

Applicant: Shawnee National Forest, Vienna, IL

The applicant requests a permit renewal to take (capture and release, handle, trap and radio-tag) Indiana bat (Myotis sodalis), gray bat (Myotis grisescens), and northern long-eared bat (Myotis septentrionalis) for presence/absence surveys, studies to document habitat use, and population monitoring in the States of Illinois, Indiana, Missouri, and Ohio. Proposed activities are for the recovery and enhancement of survival of the species in the wild.

National Environmental Policy Act

The proposed activities in the requested permits qualify as categorical exclusions under the National Environmental Policy Act, as provided by Department of the Interior implementing regulations in part 46 of title 43 of the CFR (43 CFR 46.205, 46.210, and 46.215).

Public Availability of Comments

We seek public review and comments on these permit applications. Please refer to the permit number when you submit comments. Comments and materials we receive in response to this notice are available for public inspection, by appointment, during normal business hours at the address listed above in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA (16 U.S.C. 1531 et seq.).

Dated: June 15, 2016.
Sean Marsan,
Acting Assistant Regional Director, Ecological Services, Midwest Region.

[FR Doc. 2016-14622 Filed 6-20-16; 8:45 am]

BILLING CODE 4333-15-P